DEPARTMENT OF AGRICULTURE

Submission for OMB Review; Comment Request

June 21, 2019.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 26, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Institute of Food and Agriculture

Title: Expanded Food and Nutrition Education Program (EFNEP).

OMB Control Number: 0524-0044.

Summary of Collection: The Department of Agriculture's National Institute of Food and Agriculture (NIFA), Expanded Food and Nutrition Education Program (EFNEP) is a unique program that began in 1969 and is designed to reach limited resource audiences, especially youth and families with young children. EFNEP operates in all 50 states, the District of Columbia and in American Samoa, Guam, Micronesia, Northern Marianas, Puerto Rico, and the Virgin Islands. The objectives of EFNEP are to assist families and youth with limited resources in acquiring the knowledge, skills, attitudes, and changed behaviors necessary for nutritionally sound diets, and to contribute to their personal development and the improvement of the total family diet and nutritional well-being.

Need and Use of the Information: NIFA will collect information using Web-Based Nutrition Education Evaluation and Reporting System (WebNEERS), which is an integrated database system that stores information on: (1) Programmatic results: (A) Adult program participants, their family structure and dietary practices; (B) youth group participants; and (C) staff; and (2) programmatic plans (D) annual budget; and (E) annual program plans. Without the information it would be extremely difficult for the national office to compare, assess, and analyze the effectiveness and the impact of EFNEP without the annual collection of data.

Description of Respondents: State, Local or Tribal Government.

Number of Respondents: 75.

Frequency of Responses: Recordkeeping; Reporting: Annually.

Total Burden Hours: 15,440.

Kimble Brown,
Departmental Information Collection Clearance Officer.

[FR Doc. 2019-13562 Filed 6-25-19; 8:45 am]

BILLING CODE 3410-09-P